DEPARTMENT OF HOMELAND SECURITY

Federal Emergency Management Agency

[Docket ID: FEMA-2024-0021; OMB No. 1660-0144]

Agency Information Collection Activities: Submission for OMB Review, Comment Request; Individual & Community Preparedness Division (ICPD) Youth Preparedness Council (YPC) Application Form

AGENCY: Federal Emergency Management Agency, Department of Homeland Security.

ACTION: 30-Day notice of extension and request for comments.

SUMMARY: The Federal Emergency Management Agency (FEMA) will submit the information collection abstracted below to the Office of Management and Budget for review and clearance in accordance with the requirements of the Paperwork Reduction Act of 1995. FEMA invites the general public to take this opportunity to comment on an extension, without change, of a currently approved information collection information collection. In accordance with the requirements of the Paperwork Reduction Act of 1995, this notice seeks comments concerning this collection allowing potential candidates to apply for FEMA's Youth Preparedness Council.

DATES: Comments must be submitted on or before January 2, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address FEMA-Information-Collections-Management@fema.dhs.gov or Shanna Scherbinske, Emergency Management Specialist, Individual and Community Preparedness Division, 202-286-3052, and Shanna.Scherbinske@fema.dhs.gov.

SUPPLEMENTARY INFORMATION: The FEMA Youth Preparedness Council (YPC) was formed to bring together youth leaders from across the country who are highly interested and engaged in advocating youth preparedness and making a difference in their communities. This collection meets the requirements of 6 U.S.C. 742, National Preparedness, and Presidential Policy Directive—8 (PPD-8) which emphasize the need for involvement from all sectors of society in preparing for and responding to threats and hazards.

This application form is used to select interested council members based on dedication to public service, efforts in making a difference in their community, and potential for expanding their impact as a national advocate for youth preparedness.

Council members' involvement and activities align with goals 5.2 and 5.3 from the Quadrennial Homeland Security Review (QHSR). Members are expected to represent the youth perspective on emergency preparedness and take information back to their communities to share. Council members are expected to develop and complete preparedness-related projects.

Youth apply using personal identifiable demographic and contact information, which FEMA retains confidentially for the purposes of providing acceptance/denial responses to applicants and determining a representative sample of applicants. Letters of recommendation and academic records are required, while supplemental materials highlighting past achievements are encouraged.

This proposed information collection previously published in the Federal Register on July 16, 2024, at 89 FR 57923 with a 60-day public comment period. FEMA received no public comments. The purpose of this notice is to notify the public that FEMA will submit the information collection abstracted below to the Office of Management and Budget for review and clearance.

Collection of Information

Title: Individual & Community Preparedness Division (ICPD) Annual Youth Preparedness Council (YPC) Application Form.

Type of Information Collection: Extension, without change, of a currently approved information collection.

OMB Number: 1660-0144.

FEMA Forms: FEMA Form FF-008-FY-21-111 (formerly 008-0-0-24), FEMA Youth Preparedness Council Application.

Abstract: The FEMA Youth Preparedness Council (YPC) was formed to bring together youth leaders from across the country who are highly interested and engaged in advocating youth preparedness and making a difference in their communities. This collection meets the requirements of 6 U.S.C. 742, National Preparedness, and Presidential Policy Directive—8 (PPD-8) which emphasize the need for involvement from all sectors of society in preparing for and responding to threats and hazards. This application form is used to select interested council members based on dedication to public service, efforts in making a difference in their community, and potential for expanding their impact as a national advocate for youth preparedness.

Affected Public: Individuals and Households; State, Local, or Tribal Governments.

Estimated Number of Respondents: 200.

Estimated Number of Responses: 200.

Estimated Total Annual Burden Hours: 283.

Estimated Total Annual Respondent Cost: $2,974.

Estimated Respondents' Operation and Maintenance Costs: $0.

Estimated Respondents' Capital and Start-Up Costs: $0.

Estimated Total Annual Cost to the Federal Government: $77,538.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2024-28310 Filed 12-2-24; 8:45 am]

BILLING CODE 9111-27-P